DEPARTMENT OF ENERGY

Federal Energy Regulatory Commission

[Docket No. CP03-308-000]

East Tennessee Natural Gas Company; Notice of Filing

June 6, 2003.

Take notice that on June 4, 2003, East Tennessee Natural Gas Company (East Tennessee), 5400 Westheimer Court, Houston, Texas 77056-5310, filed with the Federal Energy Regulatory Commission (Commission) an abbreviated application pursuant to the Natural Gas Act (NGA) to utilize existing vaporization capacity to provide additional vaporization service at its liquefied natural gas (LNG) storage facility located near Kingsport, Tennessee (Kingsport LNG Facility), all as more fully set forth in the application. The application is on file with the Commission and open for public inspection. The filing is available for review at the Commission in the Public Reference Room or may be viewed on the Commission's Web site at http://www.ferc.gov using the “FERRIS” link. Enter the docket number excluding the last three digits in the docket number field to access the document. For assistance, please contact FERC Online Support at FERCOnlineSupport@ferc.gov or toll free at (866) 208-3676, or for TTY, contact (202) 502-8659.

Specifically, East Tennessee states that its currently effective certificate for the Kingsport LNG Facility authorizes East Tennessee to use 100,000 Mcf/d of the facility's daily vaporization capacity and that the LNG Vaporization Project, the subject of this application, will enable East Tennessee to utilize the full 150,000 Mcf/d of vaporization capacity available at Kingsport LNG Facility to satisfy the daily sendout demands of its storage customers. East Tennessee requests that the Commission act on this filing expeditiously and issue a final certificate granting the requested authorizations on or before September 1, 2003, to allow it to begin using the excess sendout deliverability of the Kingsport LNG Facility in time to meet the demands of the upcoming winter withdrawal season. East Tennessee states that since no construction or facility modifications are required for this project, there will be no environmental or landowner impacts. East Tennessee also states that there will be no new facilities installed pursuant to this application and proposes no rate change. East Tennessee also states that the LNG Vaporization Project will increase flexibility and improve the reliability of East Tennessee's pipeline and storage facilities by increasing the sendout deliverability of the Kingsport LNG Facility. And finally East Tennesse states that it has executed binding agreements with 17 LNGS shippers for the additional sendout deliverability.

Any questions regarding this application may be directed to Steven E. Tillman, General Manager, Regulatory Affairs, East Tennessee Natural Gas Company, 5400 Westheimer Court, Houston, Texas, 77056-5310 at (713) 627-5113, fax (713) 627-5947.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see 18 CFR 385.2001(a)(1)(iii) and the instructions on the Commission's Web site under the “e-Filing” link. The Commission strongly encourages electronic filings.

Comment Date: June 16, 2003.

Magalie R. Salas,
Secretary.

[FR Doc. 03-14890 Filed 6-11-03; 8:45 am]

BILLING CODE 6717-01-P